DEPARTMENT OF HEALTH AND HUMAN SERVICES

Centers for Disease Control and Prevention

Mine Safety and Health Research Advisory Committee, National Institute for Occupational Safety and Health (MSHRAC, NIOSH)

In accordance with section 10(a)(2) of the Federal Advisory Committee Act (Pub. L. 92-463), the Centers for Disease Control and Prevention (CDC) announces the following meeting for the aforementioned committee:

Time and Date: 8:00 a.m.-12:30 p.m. (PST), November 14, 2016.

Place: CDC/NIOSH Spokane Mining Research Division, 315 E. Montgomery, Spokane, WA 99207. Teleconference and webinar is also available. If you wish to attend in person, or by phone or webinar, please contact Marie Chovanec by email at MChovanec@cdc.gov or by phone at 412-386-5302 at least 5 days in advance.

Status: Open to public, limited only by the space available. In person, the meeting room accommodates approximately 30 people. By webinar, the webinar system accommodates a maximum of 100 people.

Purpose: This committee is charged with providing advice to the Secretary, Department of Health and Human Services; the Director, CDC; and the Director, NIOSH, on priorities in mine safety and health research, including grants and contracts for such research, 30 U.S.C. 812(b)(2), Section 102(b)(2).

Matters for Discussion: The meeting will focus on mining safety and health research projects, partnerships and initiatives, including the mining program strategic goals, and priority research areas. The meeting will also include updates from the Pittsburgh Mining Research Division, and the Spokane Mining Research Division.

Agenda items are subject to change as priorities dictate.

Contact Person for More Information: Jeffrey H. Welsh, Executive Secretary, MSHRAC, NIOSH, CDC, 626 Cochrans Mill Road, Pittsburgh, PA, telephone (412)386-4040, fax (412)386-6614. The Director, Management Analysis and Services Office, has been delegated the authority to sign Federal Register notices pertaining to announcements of meetings and other committee management activities for both CDC and the Agency for Toxic Substances and Disease Registry.

Elaine L. Baker,
Director, Management Analysis and Services Office, Centers for Disease Control and Prevention (CDC).

[FR Doc. 2016-25729 Filed 10-24-16; 8:45 am]

BILLING CODE 4163-18-P